DEPARTMENT OF AGRICULTURE

Natural Resources Conservation Service

Intent To Prepare an Environmental Impact Statement for the Logan Northern Canal Reconstruction Project, Cache County, UT

AGENCY: Natural Resources Conservation Service, USDA.

ACTION: Notice of Intent to Prepare an Environmental Impact Statement.

SUMMARY: Pursuant to section 102(2)(c) of the National Environmental Policy Act, 42 U.S.C. 4321-4370d (NEPA), as implemented by the Council of Environmental Quality regulations (40 CFR parts 1500-1508), the Natural Resources Conservation Service (NRCS) announces its intent to prepare a draft Environmental Impact Statement (EIS) for the Logan Northern Canal Reconstruction project.

The purpose of this notice is to alert interested parties regarding the intent to prepare the EIS, to provide information on the nature of the proposed action and possible alternatives, and to invite public participation in the EIS process (including providing comments on the scope of the DEIS, to announce that public scoping meetings will be conducted, and to identify cooperating agency contacts).

DATES: Written comments on the scope of the EIS, including the project's purpose and need, the alternatives to be considered, types of issues that should be addressed, associated research that should be considered, and the methodologies to be used in impact evaluations should be sent to NRCS on or before August 31, 2010, at the address below. See the ADDRESSES section below for the address to submit written comments. A public scoping meeting to accept comments on the scope of the EIS will be held on Wednesday, August 11, 2010, from 5:30 p.m. to 7:30 p.m. at the Bridgerland Applied Technology College, 1301 North 600 West, Logan, Utah. Formal presentations will be given at about 5:30 p.m. and 6:30 p.m.

The building used for the scoping meeting is accessible to persons with disabilities. Any individual who requires special assistance, such as a sign language interpreter, to participate in a scoping meeting should contact Ms. Alana Spendlove, HDR Engineering, (801) 743-7829 or Alana.Spendlove@HDRInc.com.

Scoping materials and the Alternatives Analysis will be available at the meetings and are available on the NRCS Utah Web site (http://www.ut.nrcs.usda.gov/). Hard copies of the scoping materials may also be obtained from Ms. Alana Spendlove, HDR Engineering, (801) 743-7829 or Alana.Spendlove@HDRInc.com. An interagency scoping meeting will be held on August 11, 2010, at the NRCS Utah office, 125 South State Street, Room 4402, Salt Lake City, Utah. Representatives of Native American tribal governments and of federal, State, regional and local agencies that may have an interest in any aspect of the project will be invited to be cooperating agencies, as appropriate.

ADDRESSES: Comments will be accepted at the public scoping meetings or they may be sent to Mr. Bronson Smart, State Conservation Engineer, Wallace F. Bennett Federal Building, 125 South State Street, Room 4402, Salt Lake City, Utah 84138-1100, or via e-mail at bronson.smart@ut.usda.gov. The locations of the public scoping meetings are given above under DATES. Comments should be submitted by August 31, 2010.

FOR FURTHER INFORMATION CONTACT: Mr. Bronson Smart, State Conservation Engineer, Wallace F. Bennett Federal Building, 125 South State Street, Room 4402, Salt Lake City, Utah 84138-1100, or via e-mail at bronson.smart@ut.usda.gov.

SUPPLEMENTARY INFORMATION:

Background

The Logan and Northern Canal (LN Canal) and the Logan, Hyde Park and Smithfield (LHPS) Canal has provided the citizens of Cache County with irrigation water since the 1890s. During the spring of 2009 a slope failure occurred along a hill side in south Logan, Cache County, UT. As a result of the slope failure, a section of the LN Canal broke away, thus disabling the water distribution capabilities of the canal. Because the canal is part of an important water delivery system, several permitted shareholders have been adversely affected through nondelivery of irrigation water.

NRCS intends to prepare an Environmental Impact Statement (EIS) for proposed repair and/or modifications to the canal system, which occurs in an unincorporated area of Cache County and the communities of Logan, North Logan and Hyde Park, Utah. NRCS is assisting Cache County through the Emergency Watershed Protection (EWP) Program (Code of Federal Regulations, Title 7: Agriculture, Part 624—Emergency Watershed Protection). The EIS will be prepared consistent with Title 390, The National Emergency Watershed Protection Program Manual.

The proposed action is needed to reestablish support delivery of irrigation water to canal system shareholders. The purpose of the project is to restore the water conveyance condition of the canal. The EIS will be prepared in accordance with the requirements of NEPA, its implementing regulations at 40 CFR part 1500-1508, and NRCS regulations that implement NEPA at 7 CFR part 650. The EIS process will evaluate alternatives recommended for further study as a result of previous planning-level studies completed by NRCS and any additional (new) alternatives identified during scoping.

Scoping Process

NRCS invites all interested individuals and organizations, public agencies, and Native American Tribes to comment on the scope of the EIS, including the project's purpose and need, alternatives proposed to date, new alternatives that should be considered, specific areas of study that might be needed, and evaluation methods to be used.

Background information including the project purpose and need and alternatives developed to date will be available at the public and agency scoping meetings. Summaries of this information will also be available on the NRCS Web site at http://www.ut.nrcs.usda.gov/. Hard copies of supporting documentation are also available from Ms. Alana Spendlove, HDR Engineering, (801) 743-7829 or Alana.Spendlove@HDRInc.com.

Once the scope of the EIS is confirmed upon the close of scoping, NRCS will begin preparation of the EIS. A summary of comments received during the scoping process will be available on the NRCS Web site.

Project Study Area and Environmental Setting

The proposed action area is located in Cache County, Utah. The study area includes areas that are unincorporated and portions of the incorporated cities of Logan, North Logan, and Hyde Park and focuses on the LN Canal and the LHPS Canal. Both canals originate at the Logan River and generally run parallel to each in a northerly direction. The canal system that will be studied has been divided into four reaches, each having a unique environmental setting and characteristics varying in length. These four reaches are described below.

Reach 1 begins at the Point of diversion from Logan River and is about 1.5 miles long. This reach travels through a canyon environment and ends just before entering the area surrounded by the Logan Golf and Country Club. This reach represents the canal system through the canyon to the beginning of the general urban landscape.

Reach 2 is along the eastern side of the project study area in the city of North Logan and is less than a mile long. It extends from the Logan Golf and Country Club to Hyde Park, where irrigation water is temporarily being bypassed through the city of Logan stormwater system to the LHPS Canal. This reach travels through an area that supports urban and suburban development.

Reach 3 extends from Lundstrom Park in Hyde Park to 3100 North, which is at the northern edge of the study area. This area is characterized by urban and suburban development.

Reach 4 is the section of the LN Canal that extends from 400 North to 3100 North in Logan and North Logan. This reach generally travels through urban and suburban developments.

Alternatives

NRCS has developed four preliminary alternatives for the project. These alternatives are as follows:

• Alternative 1: Divert LN Canal water into the existing LHPS Canal alignment, from Logan River to the mouth of the canyon where is would be taken parallel along Highway 89 (US 89) and to a structure at 400 North and 600 East and placed back into the existing LN Canal.

• Alternative 2: Divert LN Canal water into the existing LHPS Canal alignment, from Logan River to Lundstrom Park, where it would be taken under city streets to 1400 North and approximately 900 East and placed back into the existing LN Canal.

• Alternative 3: Use the existing LN Canal's point of diversion from Logan River, place the water in a conveyance pipeline under Canyon Road to 600 East, then North to the intersection of 400 North and 600 East, and placed back into the existing LN Canal.

• Alternative 4: Divert LN Canal water into the existing LHPS Canal alignment, from Logan River to approximately 3100 North where is would be taken under the city street to 1200 East and placed back into the existing LN Canal, with service to 1400 North.

NRCS will consider any viable alternatives brought forward from initial scoping if such alternatives are substantially different from the four described above. NRCS will also study a No-Action alternative.

Cooperating Agencies

Because the project area includes land administered by the USDA Forest Service and because that agency might need to issue a special use permit for activity associated with one or more of the alternatives, the USDA Forest Service will participate in the Logan Northern Canal Reconstruction EIS process as a cooperating agency. Because one or more of the project alternatives could affect waters of the United States as defined by the Clean Water Act, the U.S. Army Corps of Engineers will also act as a cooperating agency.

Dated: July 16, 2010.
Todd Nielson,
Acting State Conservationist.

[FR Doc. 2010-17956 Filed 7-21-10; 8:45 am]

BILLING CODE 3410-16-P